DEPARTMENT OF COMMERCE

National Oceanic and Atmospheric Administration

[Docket Number 050722197-5197-01]

Partnerships in the Provision of Environmental Information

AGENCY: National Oceanic and Atmospheric Administration, Department of Commerce.

ACTION: Notice.

SUMMARY: The National Oceanic and Atmospheric Administration (NOAA) is proposing to clarify its internal Policy on Partnerships in the Provision of Environmental Information, issued December 1, 2004. This clarification is intended to address apparent misunderstanding regarding the intent of the policy with respect to the role played by the private sector in the environmental information enterprise as a whole.

DATES: To be sure that your comments are considered, we must receive them by 12 p.m., e.s.t., November 2, 2005.

ADDRESSES: The proposed clarification to the policy is available electronically at http://www.nws.noaa.gov/partnershippolicy. Comments are requested electronically; please send comments to partnershippolicy@noaa.gov. Requests for hard copies or comments in letter form should be sent to Partnership Policy, Room 11426, 1325 East-West Highway, Silver Spring, MD 20910-3283.

FOR FURTHER INFORMATION CONTACT: John Sokich 301-713-0258. john.sokich@noaa.gov.

SUPPLEMENTARY INFORMATION: The National Oceanic and Atmospheric Administration (NOAA) recognizes there has been some misunderstanding regarding the intent of its “Policy on Partnerships in the Provision of Environmental Information,” issued December 1, 2004. The present policy does not adequately express NOAA's views of the critical role played by the private sector in the environmental information enterprise as a whole. NOAA is sensitive to the concerns and prerogatives of the private sector, and has no intent to displace it. We recognize that the public interest is served by the ability of private sector entities to provide diverse services to meet the varied needs of specific individuals, organizations and economic entities. At the same time, NOAA has a responsibility to help protect lives and property and enhance the national economy.

The present standard of NOAA conduct is contained in Section 4 of the policy which states that NOAA will give “due consideration” to the abilities of the private sector and academic communities to provide diverse services and act in the public interest when making decisions regarding NOAA information services. NOAA proposes clarifying Section 4 to state that NOAA will “take advantage of existing capabilities and services of commercial and academic sectors to avoid duplication and competition in areas not related to the NOAA mission.”

The proposed clarification is intended to emphasize the statement in the present policy that NOAA will not haphazardly institute significant changes in existing information dissemination activities without first carefully considering the views and capabilities of the private sector. In that regard, it emphasizes that NOAA will endeavor to take advantage of capabilities and services that already exist in the commercial sector.

NOAA is committed to open consultation with all who are affected by NOAA's services, including the private sector. The American Meteorological Society has established a new Commission to foster constructive discussion within the enterprise as a whole. NOAA will use this and other appropriate mechanisms to consult openly on these matters as we move forward.

In sum, NOAA will interpret and apply the policy to recognize the unique capabilities of the private sector in order to accomplish our shared goal of fostering a robust and successful environmental information enterprise.

Accordingly, NOAA seeks comment on the proposed change to Section 4, which would read as follows:

4. The nation benefits from government information disseminated both by Federal agencies and by diverse nonfederal parties, including commercial and not-for-profit entities. NOAA recognizes the government best serves the public interest by cooperating with private sector and academic and research entities to meet the varied needs of specific individuals, organizations, and economic entities. NOAA will take advantage of existing capabilities and services of commercial and academic sectors to avoid duplication and competition in areas not related to the NOAA mission. NOAA will give due consideration to these abilities and consider the effects of its decisions on the activities of these entities, in accordance with its responsibilities as an agency of the U.S. Government, to serve the public interest and advance the nation's environmental information enterprise as a whole.

For ease of comparison, the present Section 4 reads as follows:

4. NOAA recognizes the public interest is served by the ability of private sector entities and the academic and research community to provide diverse services to meet the varied needs of specific individuals, organizations, and economic entities. The nation benefits from government information disseminated both by Federal agencies and by diverse nonfederal parties, including commercial and not-for-profit entities. NOAA will give due consideration to these abilities, and consider the effects of its decisions on the activities of these entities, in accordance with its responsibilities as an agency of the U.S. Government, to serve the public interest and advance the nation's environmental information enterprise as a whole.

Dated: August 1, 2005.
David L. Johnson,
Assistant Administrator for Weather Services.

[FR Doc. 05-15459 Filed 8-3-05; 8:45 am]

BILLING CODE 3510-KE-P